DEPARTMENT OF DEFENSE

Office of the Secretary

Invitation to Unmanned Aircraft Industry for Review and Comment Period on Edition 1 of NATO Standardization Agreement (STANAG) 4703 Light Unmanned Aircraft Systems (UAS) Airworthiness Requirements (AEP-83)

AGENCY: United States Office of the Secretary of Defense through the United States Department of Defense for North Atlantic Treaty Organization (NATO) STANAG 4703 Custodial Support Team (CST), DoD.

ACTION: Collection of technical comments from Industry on STANAG 4703.

SUMMARY: The NATO STANAG 4703 CST is seeking points of contact (POC) from U.S. UAS Unmanned Aircraft System Industry who are interested in participating in a formal review of STANAG 4703 Edition 1. The STANAG 4703 CST is seeking written comments and/or concerns from industry that will be provided to the CST for review and consideration for incorporation in future editions of the STANAG. NATO STANAG 4703 contains a set of technical airworthiness requirements intended for the airworthiness certification of fixed-wing light military UAS with a maximum take-off weight not greater than 150 kg that intend to regularly operate in non-segregated airspace over all population densities. These requirements represent the minimum acceptable airworthiness requirements for design and construction of military fixed-wing UAS intended to operate in non-segregated airspace. STANAG 4703 is intended to be implemented for airworthiness certification of Light UAS within each nation's national regulatory framework. Interested participant POC information will be forwarded to the STANAG 4703 CST Chairman by the STANAG 4703 U.S. Head of Delegation. A copy of STANAG 4703 will be provided to interested participants once the POC information is received by the U.S. Delegation. The intent of this effort is to collect comments from NATO member Fixed Wing UAS Industries, to disposition the comments, and at a future date hold an Industry Day to discuss industry comments provided in an open forum. Keywords: Fixed Wing, Light, UAS, UAV, Remotely Piloted Vehicle, Unmanned Aircraft, Unmanned Air Vehicle, Unmanned Aircraft Systems, Unmanned Air System, Airworthiness.

DATES: We request POC information be provided to Mrs. Sandra A. Greeley at the email address in the FOR FURTHER INFORMATION CONTACT section. We request responses by February 29, 2016. Industry Day is tentatively scheduled for May 2016 in Rome, Italy.

FOR FURTHER INFORMATION CONTACT:

Collection of Technical comments from U.S. Industry on STANAG 4703 Coordinator: Mrs. Sandra A Greeley, Email: sandra.a.greeley.ctr@navy.mil., Telephone: (301) 342-8635.

STANAG 4703 Technical Information and Questions: Mr. Richard Adams, Email: richard.adams@navy.mil., Telephone: (301) 342-8297.

Dated: January 28, 2016.
Aaron Siegel,
Alternate OSD Federal Register Liaison Officer, Department of Defense.

[FR Doc. 2016-01943 Filed 2-2-16; 8:45 am]

BILLING CODE 5001-06-P